OFFICE OF PERSONNEL MANAGEMENT

5 CFR Part 532

RIN 3206-AL71

Prevailing Rate Systems; Redefinition of the Buffalo, NY, and Pittsburgh, PA, Appropriated Fund Federal Wage System Wage Areas

AGENCY: U.S. Office of Personnel Management.

ACTION: Final rule.

SUMMARY: The U.S. Office of Personnel Management is issuing a final rule to redefine the geographic boundaries of the Buffalo, NY, and Pittsburgh, PA, appropriated fund Federal Wage System (FWS) wage areas. The final rule redefines McKean and Warren Counties, PA, and the Allegheny National Forest portions of Elk and Forest Counties, PA, from the Pittsburgh wage area to the Buffalo wage area. These changes are based on a consensus recommendation of the Federal Prevailing Rate Advisory Committee (FPRAC) to best match the above counties to a nearby FWS survey area. FPRAC recommended no other changes in the geographic definitions of the Buffalo and Pittsburgh wage areas.

DATES: Effective Date: This regulation is effective on January 14, 2009. Applicability date: The affected employees in Elk, Forest, McKean, and Warren Counties will be placed on the wage schedule for the Buffalo wage area on the first day of the first applicable pay period beginning on or after February 13, 2009.

FOR FURTHER INFORMATION CONTACT: Madeline Gonzalez, (202) 606-2838; e-mail pay-performance-policy@opm.gov; or FAX: (202) 606-4264.

SUPPLEMENTARY INFORMATION: On October 7, 2008, the U.S. Office of Personnel Management (OPM) issued a proposed rule (73 FR 58506) to redefine the Buffalo, NY, and Pittsburgh, PA, appropriated fund Federal Wage System wage areas. This proposed rule would redefine McKean and Warren Counties, PA, and the Allegheny National Forest portions of Elk and Forest Counties, PA, from the Pittsburgh wage area to the Buffalo wage area. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Michael W. Hager,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of New York is amended by revising the listing for Buffalo; and for the State of Pennsylvania, by revising the listing for Pittsburgh, to read as follows:

APPENDIX C TO SUBPART B OF PART 532—APPROPRIATED FUND WAGE AND SURVEY AREAS

* * * * *

NEW YORK

* * * * *

Buffalo

Survey Area

New York:

Erie

Niagara

Area of Application. Survey area plus:

New York:

Cattaraugus

Chautauqua

Pennsylvania:

Elk (Only includes the Allegheny National Forest portion)

Forest (Only includes the Allegheny National Forest portion)

McKean

Warren

* * * * *

PENNSYLVANIA

* * * * *

Pittsburgh

Survey Area

Pennsylvania:

Allegheny

Beaver

Butler

Washington

Westmoreland

Area of Application. Survey area plus:

Pennsylvania:

Armstrong

Bedford

Blair

Cambria

Cameron

Centre

Clarion

Clearfield

Clinton

Crawford

Elk (Does not include the Allegheny National Forest portion)

Erie

Fayette

Forest (Does not include the Allegheny National Forest portion)

Greene

Huntingdon

Indiana

Jefferson

Lawrence

Mercer

Potter

Somerset

Venango

Ohio:

Belmont

Carroll

Harrison

Jefferson

Tuscarawas

West Virginia:

Brooke

Hancock

Marshall

Ohio

* * * * *

[FR Doc. E9-554 Filed 1-13-09; 8:45 am]

BILLING CODE 6325-39-P